DEPARTMENT OF ENERGY

Federal Energy Regulatory Commission

[Project No. 7656-013]

John A. Dodson; Village of Highland Falls High-Point Utility, LDC; Notice of Application for Transfer of License and Soliciting Comments, Motions To Intervene, and Protests

On August 11, 2016, and supplemented on November 28, 2016 and January 24, 2017, Mr. John A. Dodson (transferor) and the Village of Highland Falls High-Point Utility, LDC (transferee) filed an application to transfer the license for the Buttermilk Falls Hydroelectric Project No. 7656. The project is located on Buttermilk Falls Brook in Orange County, New York.

The above parties seek Commission approval to transfer the license for the project from the transferor to the transferee.

Applicants' Contact: For Transferor: Mr. John A. Dodson, 27 Webb Lane, Highland Falls, NY 10928, Phone: (914) 446-7704, Email: thayerenergy@gmail.com. For Transferee: Mr. William J. Florence, Jr., Village of Highland Falls High-Point Utility, LDC, 303 Main Street, Highland Falls, NY 10928, Phone: (914) 737-7001, Email: williamflorence@mac.com.

FERC Contact: Ashish Desai, (202) 502-8370, Ashish.Desai@ferc.gov.

Deadline for filing comments, motions to intervene, and protests: 30 days from the issuance date of this notice by the Commission. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-7656-013.

Dated: February 16, 2017.
Nathaniel J. Davis, Sr.,
Deputy Secretary.

[FR Doc. 2017-03567 Filed 2-23-17; 8:45 am]

BILLING CODE 6717-01-P